FEDERAL MARITIME COMMISSION

Sunshine Act Meeting

AGENCY HOLDING THE MEETING: Federal Maritime Commission.

TIME AND DATE: August 19, 2009—10 a.m.

PLACE: 800 North Capitol Street, NW., First Floor Hearing Room, Washington, DC.

Status: A portion of the meeting will be in Open Session and the remainder of the meeting will be in Closed Session

Matters To Be Considered

Open Session

1. Docket No. 08-04: Tienshan, Inc. v. Tianjin Hua Feng Transportation Agency Co., Ltd.—Request for Extension of Time.

2. FY 2009 Budget Status Update.

Closed Session

1. Docket No. 08-05: City of Los Angeles, California, Harbor Department of the City of Los Angeles, Board of Harbor Commissioners of the City of Los Angeles, City of Long Beach, California, Harbor Department of the City of Long Beach, and the Board of Harbor Commissioners of the City of Long Beach—Possible Violations of the Sections 10(b)(10), 10(d)(1) and 10(d)(4) of the Shipping Act of 1984.

2. Internal Administrative Practices and Personnel Matters.

CONTACT PERSON FOR MORE INFORMATION: Karen V. Gregory, Secretary, (202) 523-5725.

Karen V. Gregory,
Secretary.

[FR Doc. E9-19656 Filed 8-12-09; 4:15 pm]

BILLING CODE 6730-01-P